DEPARTMENT OF HOMELAND SECURITY

Coast Guard

33 CFR Part 100

[Docket Number USCG-2020-0332]

RIN 1625-AA08

Special Local Regulations; Recurring Marine Events and Within the Fifth Coast Guard District

AGENCY: Coast Guard, Department of Homeland Security (DHS).

ACTION: Notice of proposed rulemaking.

SUMMARY: The Coast Guard is proposing to amend the regulations for recurring marine events that take place within the Fifth Coast Guard District area of responsibility. We invite your comments on this rulemaking.

DATES: Comments and related material must be received by the Coast Guard on or before July 6, 2021.

ADDRESSES: You may submit comments identified by docket number USCG-2020- 0332 using the Federal eRulemaking Portal at http://www.regulations.gov. See the “Public Participation and Request for Comments” portion of the SUPPLEMENTARY INFORMATION section for further instructions on submitting comments.

FOR FURTHER INFORMATION CONTACT: If you have questions about this proposed rulemaking, call or email Mr. Jerry Barnes, Fifth Coast Guard District Office of Waterways Management, U.S. Coast Guard; telephone 757-398-6230, Jerry.R.Barnes@uscg.mil.

SUPPLEMENTARY INFORMATION:

I. Table of Abbreviations

CFR Code of Federal Regulations

COTP Captain of the Port

DHS Department of Homeland Security

Event PATCOM Coast Guard Event Patrol Commander

FR Federal Register

NPRM Notice of proposed rulemaking

§ Section

U.S.C. United States Code

II. Background, Purpose, and Legal Basis

The Fifth Coast Guard District puts in place recurring special local regulations to ensure public safety for marine events that take place either on or over the navigable waters of the United States within the Fifth Coast Guard District area of responsibility as defined at 33 CFR part 3, subpart 3.25. These recurring special local regulations are found in the Code of Federal Regulations at 33 CFR 100.501 and that section's respective table. The Coast Guard regularly updates these regulations. They were last substantively amended June 13, 2017. The Fifth Coast Guard District is proposing to revise these regulations for improved clarity, to correspond with current Coast Guard operating policies for marine events, to update existing events, add new events, and remove events that no longer require additional safety measures. Based on the nature of marine events, large numbers of participants and spectators, and event locations, the events listed in the table to 33 CFR 100.501 could pose a risk to participants or waterway users if normal vessel traffic were to interfere with the event. Possible hazards include risks of injury or death resulting from near or actual contact among participant vessels and non-participant vessels or mariners traversing through the regulated area. In order to protect the safety of all waterway users including event participants and non-participants, this rule would establish special local regulations for the time and location of each marine event.

The purpose of this rulemaking is to ensure the safety of persons, vessels, and the navigable waters within close proximity to recurring marine events before, during, and after the scheduled events. The Coast Guard is proposing this rulemaking under authority in 46 U.S.C. 70041. The Secretary has delegated ports and waterways authority, with certain reservations not applicable here, to the Commandant via DHS Delegation No. 0170.1(II)(70). The Commandant has further delegated these authorities within the Coast Guard as described in 33 CFR 1.05-1

III. Discussion of Proposed Rule

Changes To Improve Clarity and Reflect Current Coast Guard Marine Event Policies

We are proposing several stylistic and formatting changes to update 33 CFR 100.501, and associated tables, to provide greater clarity and remove potential ambiguities. We are also proposing to make revisions to reflect current Coast Guard marine event policy.

• Plain language edits, such as switching from passive to active voice and more clearly stating the enforcement period for each event.

• Writing regulatory requirements and definitions in the singular rather than the plural, where appropriate.

• Listing definitions and the events by COTP Zone in alphabetical order.

• Reformatting the table entries so that they all have similar formatting (there are currently discrepancies in how similar entries are formatted).

• Separating the special local regulations for each COTP Zone into their own tables.

• Amending the name and location for Sector Virginia to Portsmouth, VA, where the command center is located and to change the phone number for Sector North Carolina.

Additionally, we are proposing to consolidate all defined terms into a single paragraph, paragraph (b) of § 100.501, and list them in alphabetical order. Currently the defined terms “buffer area”, “race area”, and “spectator area” appear in the regulatory requirements in 33 CFR 100.501(c) rather than with the definitions. These definitions would be moved to the definition section and put into alphabetical order. Regulatory requirements for these areas will remain in the regulatory requirements portion of the regulation.

We would change the defined term of “buffer area” to “buffer zone” to comport with the more common usage. The definition would be revised to reflect that it may sometimes be appropriate to have a buffer zone event if there is not a spectator area within the regulated area.

We would change the defined term “Coast Guard Patrol Commander” to “Event Patrol Commander” or “Event PATCOM” in alignment with updated local policy. The underlying associated definition would remain the same: A Coast Guard commissioned, warrant, or petty officer who has been designated by the COTP to act on their behalf.

We would change the defined term of “official patrol” to “official patrol vessel or official patrol” in alignment with updated local policy. The text of the definition would remain unchanged except for some additional text at the end to allow the Event PATCOM to be augmented by local, state, or Federal officials authorized to act in support of the Coast Guard in accordance with local agreements. This revision enhances the resources available to the COTP to ensure the safety and security of the public during these events.

We are proposing to remove the defined term “spectator” and add in its place definitions for “participant” and “non-participant”. This wording change better reflects who is actually present in and near regulated areas and how the Coast Guard regulates their activities.

Delegation of Authority for Determination of Requirement for a Marine Patrol

We are proposing to amend current paragraph (b), paragraph (c) in the proposed text, to delegate authority to the local COTP in determining when a marine patrol is required. This delegation of authority from the District Commander provides the local operational commander the ability to manage and maintain safety and security for events within their Area of Responsibility. We have also updated the text to allow for other government agencies to provide enforcement when working under local agreements and added the term Event Patrol Commander (Event PATCOM). Collectively, these changes enable the local Captain of the Port to retain operational control and incorporate risk based decision making to the event. Finally, authority has been given to the COTP, COTP representative, or Event PATCOM to postpone or cancel the event to ensure the safety of the event and the public.

Updates to Recurring Events Table

This proposed rule would add 7 new special local regulations for recurring marine events, revise 12 previously established regulations for recurring marine events, and remove 14 recurring events listed in § 100.501 for the reasons provided in the table. The revised events and the new events would be required to comply with the requirements in 33 CFR 100.501.

Table 1—Events To Be Added to 33 CFR 100.501
USCG sector | Event | Regulated area (coordinates in proposed regulatory text) | Enforcement period * | Sponsor
Sector Maryland-National Capital Region—COTP Zone | Flying Point Park Outboard Regatta | Bush River and Otter Point Creek, MD | One weekend (a consecutive Saturday and Sunday) in May | Carolina Virginia Racing Association.
| Maryland Freedom Swim | Choptank River, MD | 1. The 2nd Saturday or Sunday in May; or | TCR Event Management.
|  |  | 2. The 3rd Saturday or Sunday in May; or
|  |  | 3. The 4th Saturday or Sunday in May; or
|  |  | 4. The last Saturday or Sunday in May
| Oxford Funathlon Swim | Tred Avon River, MD | 1. The 1st Saturday or Sunday in June; or | Charcot Marie Tooth Association and Therapies for Inherited Neuropathies.
|  |  | 2. The 2nd Saturday or Sunday in June; or
|  |  | 3. The 3rd Saturday or Sunday in June
| Thunder on the Choptank | Choptank River and Hambrooks Bay, MD | 1. The 3rd Saturday and Sunday in July; or 2. The 4th Saturday and Sunday in July; or | Kent Narrows Racing Association.
|  |  | 3. the last Saturday and Sunday in July
| Washington DC Sharkfest Swim | Upper Potomac River, MD | 1. The 3rd Saturday or Sunday in June; or 2. The 4th Saturday or Sunday in June; or | Enviro-Sports Productions Inc.
|  |  | 3. the last Saturday or Sunday in June
Sector Virginia—COTP Zone | Something in the Water | North Atlantic Ocean, Virginia Beach, VA | The last Friday, Saturday, and Sunday in April | Redrock Entertainment Services.
Sector North Carolina—COTP Zone | Roanoke River Races | Roanoke River, Plymouth, NC | 1. Either: a. The 1st Saturday and Sunday in August; or | Virginia Outlaw Drag Boat Association (VODBA).
|  |  | b. The 2nd Saturday and Sunday in August; or
|  |  | c. The 3rd Saturday and Sunday in August; or
|  |  | d. The 4th Saturday and Sunday in August; and
|  |  | 2. Either: a. The 2nd Saturday and Sunday in October;
|  |  | b. The 3rd Saturday and Sunday in October; or
|  |  | c. The 4th Saturday and Sunday in October; or
|  |  | d. The last Saturday and Sunday in October
* The enforcement period for each of the listed special local regulations is subject to change in accordance with 33 CFR 100.501(f).

Table 2—Substantive Changes to Existing Recurring Special Local Regulations in 33 CFR 1000.501
USCG sector | Event | Location | Revision (date/coordinates) | Reason for change
Sector Delaware Bay— COTP Zone | Point Pleasant OPA/NJ Offshore Grand Prix | Atlantic Ocean, Point Pleasant, NJ | dates and coordinates | Coordinates updated to reflect accurate course location to improve public safety. Event date updated.
| Thunder Over the Boardwalk Air show | Atlantic Ocean, Atlantic City, NJ | dates | Event date updated.
| Ocean City Air Show | Intracoastal Waterway, Ocean City, NJ | dates | Event date updated.
| Triathlons in Atlantic City | Intracoastal Waterway, Atlantic City, NJ | Event name/dates and coordinates | Coordinates updated with new course layout to ensure public safety. Event name and date updated.
Maryland-National Capital Region— COTP Zone | Washington, DC Dragon Boat Festival | Upper Potomac, DC | dates | Event date updated.
| Bay Bridge Paddle | Chesapeake Bay, Sandy Point Park, MD | dates and coordinates | Coordinates updated to reflect course layout change. Zone increased to improve public safety. Event date updated.
| Catholic Charities Dragon Boat Races | Patapsco, River, MD | dates | Event date updated.
| Baltimore Dragon Boat Challenge | Patuxent River, MD | coordinates | Coordinates updated to reduce excessive size with no impact on public safety.
| Ocean City Grand Prix | North Atlantic Ocean, Ocean City, MD | dates and coordinates | Coordinates updated with new course layout to ensure public safety Event date updated.
| Cambridge Classic Powerboat Race | Choptank River and Hambrooks Bay, MD | dates and coordinates | Regulated area is increased to prevent hazards within the event area and ensure public safety. Change includes minor changes to coordinates for buffer and spectator areas. Event date updated.
| Southern Maryland Boat Club Summer Regatta and Bash on the Bay Regatta | Breton Bay, MD | Event name and dates | Coordinates updated with new course layout at sponsor's request. Event name and date updated.
| NAS Patuxent River Air Expo | Patuxent River, MD | dates | Event dates updated.

Table 3—Special Local Regulations To Be Removed from Table to 33 CFR 100.501
USCG Sector * | Event | Date(s) | Regulated area | Reason for removal
Sector Delaware Bay—COTP Zone | Atlantic County Day at the Bay | June—1st Sunday | Great Egg Harbor Bay, NJ | Event no longer held.
| Annual Escape from Fort Delaware Triathlon | May—3rd Sunday; September—3rd Saturday | Delaware River, DE | Event no longer held.
| Westville Parade of Lights | June—last Saturday | Big Timber Creek, NJ | Event no longer held.
| OPA Atlantic City Grand Prix | June—4th Sunday | Atlantic Ocean, Atlantic City, NJ | Event no longer held.
| U.S. Holiday celebrations | July—on or about July 4th | Delaware River, Philadelphia, PA | Removing special local regulated area and deferring to safety zone for this event; removal does not negatively impact public safety.
| New Jersey Offshore Grand Prix | May—3rd weekend | Atlantic Ocean, NJ | Event no longer held.
| U.S. Holiday Celebrations | October—1st Monday | Delaware River, Philadelphia, PA | Removing special local regulated area and deferring to safety zone for this event; removal does not negatively impact public safety.
| U.S. Holiday Celebrations | December 31st | Delaware River, Philadelphia, PA | Removing special local regulated area and deferring to safety zone for this event; removal does not negatively impact public safety.
Sector Maryland-National Capital Region— COTP Zone | Middle River Dinghy Poker Run | July—3rd, 4th, or last Saturday or Sunday | Middle River, MD | Event no longer held.
| Nanticoke River Swim and Triathlon | May—1st Sunday | Nanticoke Rivers, MD | Removing special local regulations and deferring to navigation safety regulations; removal does not negatively impact public safety.
| Bo Bowman Memorial—Sharptown Regatta | June—last Saturday and Sunday or July—2nd Saturday or Sunday | Nanticoke River, MD | Event is held infrequently and thereby removed from this list of recurring marine events.
| Oxford- Bellevue Sharkfest Swim | May—2nd, 3rd, 4th or last Saturday or Sunday | Tred Avon River, MD | Event no longer held.
Sector Virginia— COTP Zone | RRBA Spring Radar Shootout | June—last Saturday or July—1st Saturday | Rappahannock River, Layton, VA | Event no longer held.
| Hampton Bay Days | September—1st Friday, Saturday and Sunday or 2nd Friday, Saturday and Sunday | Sunset Creek and Hampton River, VA | Event no longer held.
* The addition of this column is to clarify the COTP zone and make clear to the reader where the change occur geographically.

The regulatory text we are proposing appears at the end of this document.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771. This regulatory action determination is based on the short amount of time that vessels will be restricted from regulated areas, and the small size of these areas that are usually positioned away from high vessel traffic zones. Generally vessels would not be precluded from getting underway, or mooring at any piers or marinas currently located in the vicinity of the regulated areas. Advance notifications would also be made to the local maritime community by issuance of Local Notice to Mariners, Broadcast Notice to Mariners, Marine Safety Information or Security Bulletins so mariners can adjust their plans accordingly. Notifications to the public for most events will typically be made by local newspapers, radio and TV stations. The Coast Guard anticipates that these special local regulated areas will only be enforced one to three times per year.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit through a special local regulated area may be small entities, for the reasons stated in section IV.A above, this proposed rule would not have a significant economic impact on any vessel owner or operator.

These special local regulated areas will not have a significant economic impact on a substantial number of small entities for the following reasons: The Coast Guard will ensure that small entities are able to operate in the areas where events are occurring to the extent possible while ensuring the safety of event participants and non-participants. The enforcement period will be short in duration and, in many of the areas, vessels can transit safely around the regulated area. Generally permission to enter, remain in, or transit through these regulated areas during the enforcement may be given when deemed safe to do so by the Event PATCOM on scene. Before the enforcement period, we will issue maritime advisories widely.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. Normally such actions are categorically excluded from further review under paragraph L61 of Appendix A, Table 1 of DHS Instruction Manual 023-01-001-01, Rev. 1, because it involves establishment of special local regulations related to marine event permits for marine parades, regattas, and other marine events. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, call or email the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in this NPRM as being available in the docket, and all public comments, will be in our online docket at https://www.regulations.gov and can be viewed by following that website's instructions. Additionally, if you go to the online docket and sign up for email alerts, you will be notified when comments are posted or a final rule is published.

List of Subjects 33 CFR Part 100

Marine safety, Navigation (water), Reporting and recordkeeping requirements, Waterways.

For the reasons discussed in the preamble, the Coast Guard proposes to amend 33 CFR part 100 as follows:

PART 100—SAFETY OF LIFE ON NAVIGABLE WATERS

1. The authority citation for part 100 continues to read as follows:

Authority: 46 U.S.C. 70041; 33 CFR 1.05-1.

2. Revise § 100.501 to read as follows:

§ 100.501 Special Local Regulations; Marine Events within the Fifth Coast Guard District.

(a) Applicability. Paragraphs (a) through (i) of this section apply to the marine events listed in paragraph (i) of this section. The regulations in this section are effective annually, for the duration of each event listed in paragraph (i) of this section. Annual notice of the exact times, and dates if there is a range of possible dates, of the enforcement period of the regulation in this section with respect to each event, the geographical area, and details concerning the nature of the event and the number of participants and type(s) of vessels involved will be published in Local Notices to Mariners and via Broadcast Notice to Mariners over VHF-FM marine band radio.

(b) Definitions. The following definitions apply to this section:

Buffer zone means a neutral area that surrounds the perimeter of the whole regulated area or a race area within a regulated area. The buffer zone provides separation between a race area and spectator area, or regulated area and a spectator area or other vessels that are operating in the vicinity of the special local regulated area for marine event. The purpose of a buffer zone is to minimize potential collision conflicts between participants, between participants and non-participants, or between participants or non-participants with nearby transiting vessels.

Captain of the Port Representative or COTP Representative means a commissioned, warrant, or petty officer of the Coast Guard designated by name by the Captain of the Port to verify an event's compliance with the conditions of its approved permit.

Event Patrol Commander or Event PATCOM means a commissioned, warrant, or petty officer of the Coast Guard who has been designated by the respective Coast Guard Sector—Captain of the Port to enforce these regulations in this section.

Non-participant means a person or a vessel not registered with the event sponsor either as a participant or an official patrol vessel.

Official patrol vessel or official patrol means any vessel assigned or approved by the respective Captain of the Port with a commissioned, warrant, or petty officer on board and displaying a Coast Guard ensign, or any state or local law enforcement vessel approved by the Captain of the Port in accordance with current local agreements.

Participant means any person or vessel registered with the event sponsor as participating in the event or otherwise designated by the event sponsor as having a function tied to the event.

Race area means an area bound by coordinates provided in latitude and longitude within the regulated area inside of which the actual racing events are held.

Regulated area means an area where special local regulations apply to a specific described waterway to include creeks, sounds, bays, rivers, and oceans. Regulated areas include all navigable waters of a specific body of water described with intent to define boundaries where the Coast Guard enforces special local regulations. Boundaries may be described from shoreline to shoreline, reference bridges or other fixed structures, by points and lines defined by latitude and longitude. All coordinates reference Datum: NAD 1983.

Spectator area means an area bound by coordinates provided in latitude and longitude within the regulated area that outlines the boundary of an area reserved for non-participant vessels watching the event.

(c) Patrol of the marine event. The respective COTP may assign one or more official patrol vessels, as described in § 100.40, to each regulated event listed in the tables in paragraph (i) of this section. For each event assigned a patrol vessel, an Event PATCOM will be designated to oversee the patrol. The patrol vessel and the Event PATCOM may be contacted on VHF-FM Channel 16. The Event PATCOM may terminate the event, or the operation of any vessel participating in the marine event, at any time if deemed necessary for the protection of life or property.

(d) Special local regulations—(1) Controls on vessel movement. The Event PATCOM or official patrol vessel may forbid and control the movement of all persons and vessels in the regulated area(s). When hailed or signaled by an official patrol vessel, the person or vessel being hailed must immediately comply with all directions given. Failure to do so may result in expulsion from the area, citation for failure to comply, or both.

(2) Directions, instructions, and minimum speed necessary. (i) The operator of a vessel in the regulated area must stop the vessel immediately when directed to do so by an official patrol vessel and then proceed only as directed.

(ii) A person or vessel must comply with all instructions of the Event PATCOM or official patrol vessel.

(iii) A vessel operator may request permission to enter and transit through a regulated area by contacting the Event PATCOM or official patrol vessel on VHF-FM channel 16. When authorized to transit through the regulated area, the vessel must proceed at the minimum speed necessary to maintain a safe course that minimizes wake near the event area.

(3) Race area. Only participants and official patrol vessels are allowed to enter the race area.

(4) Spectator area. Non-participants are only allowed inside the regulated area if they remain within a designated spectator area or have authorization from the Event PATCOM or official patrol vessel to transit through the area. A non-participant vessel must be stationary or operate at a safe speed while within the designated spectator area. On scene official patrol vessels or the Event PATCOM will direct non-participant vessels to the spectator area. A non-participant must contact the Event PATCOM or official patrol vessel to request permission to pass through the regulated area. If permission is granted, the non-participant must pass directly through the regulated area at minimum speed necessary to maintain a safe course that minimizes wake and without loitering.

(5) Regulated area. Non-participants are only allowed inside the regulated area to pass through or enter and remain within a designated spectator area. A non-participant must contact the Event PATCOM or an official patrol vessel to request permission to either enter the Spectator Area or pass through the regulated area. If permission is granted, the non-participant may enter the spectator area or pass directly through the regulated area as instructed by the Event PATCOM or official patrol vessel at minimum speed necessary to maintain a safe course that minimizes wake and without loitering.

(6) Postponement or cancellation. The respective COTP or Event PATCOM may postpone or cancel a marine event at any time if, in the COTP's sole discretion, the COTP determines that cancellation is necessary for the protection of life or property.

(e) Contact information. Questions about marine events should be addressed to the local Coast Guard Captain of the Port for the area in which the marine event is occurring. Contact information is listed in paragraphs (e)(1) through (4) of this section. For a description of the geographical area of each Coast Guard Sector—Captain of the Port Zone, please see 33 CFR part 3, subpart 3.25.

(1) Coast Guard Sector Delaware Bay—Captain of the Port Zone, Philadelphia, Pennsylvania: (215) 271-4940.

(2) Coast Guard Sector Maryland-National Capital Region—Captain of the Port Zone, Baltimore, Maryland: (410) 576-2525.

(3) Coast Guard Sector Virginia—Captain of the Port Zone, Portsmouth, Virginia: (757) 483-8567.

(4) Coast Guard Sector North Carolina—Captain of the Port Zone, Wilmington, North Carolina: (910) 343-3882.

(f) Application for marine events. The application requirements of § 100.15 apply to all marine events listed in paragraph (i) of this section. For information on applying for a marine event permit, contact the Captain of the Port for the area in which the marine event will occur, at the phone numbers listed in paragraph (e) of this section.

(g) Enforcement periods. Each year prior to an event the Coast Guard will announce details concerning the event, including the exact date(s) and time(s) of the enforcement period of the special local regulation in this section and the geographical area, in the Local Notices to Mariners and by Broadcast Notice to Mariners over VHF-FM marine band radio. In the case of inclement weather or other just cause found by the respective COTP, the event may be conducted within 30 days before or after the date(s) listed in paragraph (i) of this section. If the event is held on an alternate date from that listed in paragraph (i) the Coast Guard will publish a notification in the Federal Register announcing the exact dates and time of the enforcement period with respect to the special local regulation in this section in addition to announcement in the Local Notices to Mariners and Broadcast Notice to Mariners.

(h) Regulations for specific marine events in paragraph (i) of this section—(1) USNA Blue Angels Air Show, Coast Guard Sector Maryland-National Capital Region—COTP Zone. Except for an emergency situation, a vessel may not anchor or maintain station within the spectator area without the permission of the COTP Maryland-National Capital Region or designated Event PATCOM. The COTP Maryland-National Capital Region has designated this spectator area for commercial small passenger vessel use. This area is closed except for commercial small passenger vessels holding a valid Certificate of Inspection regulated under 46 CFR chapter I, subchapters K and T (46 CFR 114.110 and 175.110). Vessels that meet the requirements of this section may request access to the Severn River spectator area by contacting the City of Annapolis Harbormaster at (410) 263-7973 or email harbormaster@annapolis.gov to obtain a vessel spectator area application. Vessel spectator area applications shall be submitted no later than 10 calendar days prior to the event date. Applicants will be notified by the COTP Maryland-National Capital Region or COTP representative regarding status of applications and further instructions. All vessels shall contact the Event PATCOM on VHF-FM channels 16 or 22A prior to transiting to the spectator area to confirm entry approval. Vessels approved for spectator area access shall follow the instructions issued by the official patrol vessels or the Event PATCOM when entering the regulated area. The regulations in this section for this event will restrict access to the anchorage grounds listed at 33 CFR 110.159(a)(2) through (4).

(2) Air Show Baltimore, Coast Guard Sector Maryland-National Capital Region—COTP Zone. Except for an emergency situation, a vessel may not anchor or hold station within the spectator area without the permission of the COTP Maryland-National Capital Region or Event PATCOM. The COTP Maryland-National Capital Region has designated this spectator area for commercial small passenger vessel use. This area is closed except for commercial small passenger vessels holding a valid Certificate of Inspection regulated under 46 CFR chapter I, subchapters K and T (46 CFR 114.110 and 175.110). Vessels that meet the requirements of this section may request access to the Patapsco River spectator area by contacting the Sail Baltimore at (410) 522-7300 or emailing info@sailbaltimore.org to obtain a vessel spectator area application. Vessel spectator area applications shall be submitted no later than 10 calendar days prior to the event date. Applicants will be notified by the COTP Maryland-National Capital Region or COTP representative regarding status of applications and further instructions. All vessels shall contact the Event PATCOM on VHF-FM channels 16 or 22A prior to transiting to the spectator area to confirm entry approval. Vessels approved for spectator area access shall follow the instructions issued by on scene official patrol vessels or the Event PATCOM when entering the regulated area. The regulations in this section for this event will restrict access to the anchorage grounds listed at 33 CFR 110.158(a)(1) through (5).

(i) Special local regulations—recurring events within the Fifth Coast Guard District by COTP Zone. All coordinates listed reference Datum NAD 1983. As noted in paragraph (g) of this section, the enforcement period for each of the special local regulations listed in this paragraph (i) is subject to change.

(1) Coast Guard Sector Delaware Bay—COTP Zone.

Table 1 to Paragraph (i)(1)
Event | Regulated area | Enforcement period(s) ¹ | Sponsor
Ocean City Air Show | All navigable waters of the New Jersey Intracoastal Waterway (ICW) bounded by a line connecting the following points; latitude 39°15′57″ N, longitude 074°35′09″ W, thence northeast to latitude 39°16′34″ N, longitude 074°33′54″ W, thence southeast to latitude 39°16′17″ N, longitude 074°33′29″ W, thence southwest to latitude 39°15′40″ N, longitude 074°34′46″ W, thence northwest to point of origin, near Ocean City, NJ | One Sunday in September | Ocean City, NJ.
Point Pleasant OPA/NJ Offshore Grand Prix | All navigable waters of the Atlantic Ocean in the vicinity of Point Pleasant Beach, NJ bounded by a line connecting the following points: Latitude 40°06′00″ N, longitude 074°01′51″ W, thence east to latitude 40°05′56″ N, longitude 074°01′16″ W, thence southwest to latitude 40°03′34″ N, longitude 074°01′53″ W, thence west to latitude 40°03′39 N, longitude 74°02′37″ W, thence north parallel to the shoreline to the point of origin | 1. One Saturday and Sunday in May; or 2. One Saturday and Sunday in June | Offshore Performance Association (OPA) and New Jersey Offshore Racing Association.
Thunder Over the Boardwalk Air show | The waters of the North Atlantic Ocean, adjacent to Atlantic City, New Jersey, bounded by a line drawn between the following points: From a point along the shoreline at latitude 39°21′31″ N, longitude 074°25′04″ W, thence southeasterly to latitude 39°21′08″ N, longitude 074°24′48″ W, thence southwesterly to latitude 39°20′16″ N, longitude 074°27′17″ W, thence northwesterly to a point along the shoreline at latitude 39°20′44″ N, longitude 074°27′31″ W, thence northeasterly along the shoreline to latitude 39°21′31″ N, longitude 074°25′04″ W. | One consecutive Monday, Tuesday, and Wednesday in August | Atlantic City Chamber of Commerce.
Triathlons in Atlantic City | All navigable waters of the New Jersey Intracoastal Waterway (ICW) bounded by a line connecting the following points: Latitude 39°21′27.47″ N, longitude 074°27′10.31″ W, thence northeast to latitude 39°21′33″ N, longitude 074°26′57″ W, thence northwest to latitude 39°21′37″ N, longitude 074°27′03″ W, thence southwest to latitude 39°21′29.88″ N, longitude 074°27′14.31″ W, thence south to latitude 39°21′19″ N, longitude 074°27′22″ W, thence east to latitude 39°21′18.14″ N, longitude 074°27′19.25″ W, thence north to point of origin, near Atlantic City, NJ | 1. One Saturday in August; and 2. One Sunday in September | Atlantic City, NJ.
¹ As noted, the enforcement dates and times for each of the listed events in this table 1 are subject to change. In the event of a change, or for enforcement periods listed that do not allow a specific date or dates to be determined, the Captain of the Port will provide notice to the public by publishing a Notice of Enforcement in the Federal Register, as well as, issuing a Broadcaster Notice to Mariner.

(2) Coast Guard Sector Maryland-National Capital Region—COTP Zone.

Table 2 to Paragraph (i)(2)
Event | Regulated area | Enforcement period(s) ¹ | Sponsor
Air Show Baltimore | Regulated area: All navigable waters of the Patapsco River, within an area bounded by a line connecting position latitude 39°16′00″ N, longitude 076°36′30″ W, thence east to latitude 39°16′00″ N, longitude 076°33′00″ W, thence south to latitude 39°14′30″ N, longitude 076°33′00″ W, thence west to latitude 39°14′30″ N, longitude 076°36′30″ W, thence north to point of origin, located between Port Covington and Seagirt Marine Terminal, Baltimore, MD Spectator Area. All navigable waters of Patapsco River located between the northern boundary defined by a line drawn from the vicinity of North Locust Point Marine Terminal, Pier 1 thence east to Canton Industrial area, Pier 5; the south boundary is defined by a line drawn from vicinity of Whetstone Point thence east to Lazaretto Point. This area is located generally where Northwest Harbor, East Channel joins Patapsco River, Fort McHenry Channel, near Fort McHenry National Monument, Baltimore, MD. This area is bound by a line to the north commencing at position latitude 39°16′01″ N, longitude 076°34′46″ W, thence east to latitude 39°16′01″ N, longitude 076°34′09″ W, and bound by a line to the south commencing at position latitude 39°15′39″ N, longitude 076°35′23″ W, thence east to latitude 39°15′26″ N, longitude 076°34′03″ W. This spectator area is restricted to certain vessels as described in paragraph (h)(2) of this section | Biennial, even years: 1. The 2nd Thursday in September, following a Friday, Saturday and Sunday; or 2. The Thursday, Friday, Saturday and Sunday before Columbus Day (observed); or 3. The Thursday, Friday, Saturday and Sunday after Columbus Day (observed) | Historic Ships in Baltimore, Inc.
Baltimore Dragon Boat Challenge | All navigable waters of Patapsco River, Northwest Harbor, in Baltimore, MD, from shoreline to shoreline, within an area bounded on the east by a line drawn along longitude 076°35′00″ W, and bounded on the west by a line drawn along longitude 076°35′47″ W | 1. June 3rd; or 2. June 4th; or 3. The last Saturday or Sunday in June | Baltimore Dragon Boat Club.
Bay Bridge Paddle | All navigable waters of the Chesapeake Bay, adjacent to the shoreline at Sandy Point State Park and between and adjacent to the spans of the William P. Lane Jr. Memorial Bridges, from shoreline to shoreline, bounded to the north by a line drawn from the western shoreline at latitude 39°01′05.23″ N, longitude 076°23′47.93″ W; thence eastward to latitude 39°01′02.08″ N, longitude 076°22′40.24″ W; thence southeastward to eastern shoreline at latitude 38°59′13.70″ N, longitude 076°19′58.40″ W; and bounded to the south by a line drawn parallel and 500 yards south of the south bridge span that originates from the western shoreline at latitude 39°00′17.08″ N, longitude 076°24′28.36″ W; thence southward to latitude 38°59′38.36″ N, longitude 076°23′59.67″ W; thence eastward to latitude 38°59′26.93″ N, longitude 076°23′25.53″ W; thence eastward to the eastern shoreline at latitude 38°58′40.32″ N, longitude 076°20′10.45″ W, located between Sandy Point and Kent Island, MD | The 1st Saturday or Sunday in June | ABC Events, Inc.
Cambridge Classic Powerboat Race | Regulated area: All navigable waters within Choptank River and Hambrooks Bay bounded by a line connecting the following coordinates: Commencing at the shoreline at Long Wharf Park, Cambridge, MD, at position latitude 38°34′30″ N, longitude 076°04′16″ W; thence east to latitude 38°34′20″ N, longitude 076°03′46″ W; thence northeast across the Choptank River along the Senator Frederick C. Malkus, Jr. (US-50) Memorial Bridge, at mile 15.5, to latitude 38°35′30″ N, longitude 076°02′52″ W; thence west along the shoreline to latitude 38°35′38″ N, longitude 076°03′09″ W; thence north and west along the shoreline to latitude 38°36′42″ N, longitude 076°04′15″ W; thence southwest across the Choptank River to latitude 38°35′31″ N, longitude 076°04′57″ W; thence west along the Hambrooks Bay breakwall to latitude 38°35′33″ N, longitude 076°05′17″ W; thence south and east along the shoreline to and terminating at the point of origin. The following locations are within the regulated area: Race area: Located within the navigable waters of Hambrooks Bay and Choptank River, between Hambrooks Bar and Great Marsh Point, MD Buffer zone: All navigable waters within Hambrooks Bay and Choptank River (with the exception of the Race Area designated by the marine event sponsor) bounded to the north by the breakwall and continuing along a line drawn from the east end of breakwall located at latitude 38°35′27.6″ N, longitude 076°04′50.1″ W, thence W. southeast to latitude 38°35′17.7″ N longitude 076°04′29″ W, thence south to latitude 38°35′01″ N longitude 076°04′29″ W, thence west to the shoreline at latitude 38°35′01″ N, longitude 076°04′41.3″ W | One weekend (a consecutive Saturday and Sunday) in May | Cambridge Power Boat Regatta Association
| Spectator area: All navigable waters of the Choptank River, eastward and outside of Hambrooks Bay breakwall, thence bounded by a line that commences at latitude 38°35′28″ N, longitude 076°04′50″ W; thence northeast to latitude 38°35′30″ N, longitude 076°04′47″ W; thence southeast to latitude 38°35′23″ N, longitude 076°04′29″ W; thence southwest to latitude 38°35′19″ N, longitude 076°04′31″ W; thence northwest to and terminating at the point of origin
Catholic Charities Dragon Boat Races | The navigable waters of the Patapsco River, within the Inner Harbor, from shoreline to shoreline, bounded on the east by a line drawn along longitude 076°36′30″ W, located at Baltimore, MD | Biennial, even years: 1. The 1st Saturday in September; or 2. The 2nd Saturday in September | Associated Catholic Charities, Inc.
Chestertown Tea Party Re- enactment | All navigable waters of the Chester River, within a line connecting the following positions: Commencing at latitude 39°12′27″ N, longitude 076°03′46″ W, thence south to latitude 39°12′19″ N, longitude 076°03′53″ W, thence east to latitude 39°12′16″ N, longitude 076°03′48″ W, thence north to latitude 39°12′25″ N, longitude 076°03′41″ W, thence west to point of origin latitude 39°12′27″ N, longitude 076°03′46″ W, located at Chestertown, MD | The Saturday before Memorial Day | Chestertown Tea Party Festival, Inc.
Eastport Yacht Club Lights Parade | All navigable waters of Spa Creek and the Severn River, shoreline to shoreline, bounded on the east by a line drawn from Triton Light, at latitude 38°58′53.1″ N, longitude 076°28′34.3″ W, thence southwest to Horn Point, at 38°58′20.9″ N, longitude 076°28′27.1″ W, and bounded on the west by a line drawn along 076°30′00″ W, that crosses the western end of Spa Creek, at Annapolis, MD | The 2nd Saturday or Sunday in December; | Eastport Yacht Club.
Flying Point Park Outboard Regatta | Regulated area. All navigable waters of Bush River and Otter Point Creek, from shoreline to shoreline, bounded to the north by a line drawn from the western shoreline of the Bush River at latitude 39°27′15″ N, longitude 076°14′39″ W and thence eastward to the eastern shoreline of the Bush River at latitude 39°27′03″ N, longitude 076°13′57″ W; and bounded to the south by the Amtrak Railroad Bridge, across the Bush River at mile 6.8, between Perryman, MD and Edgewood, MD. The following locations are within the regulated area: | One weekend (a consecutive Saturday and Sunday) in May | Carolina Virginia Racing Association.
| Race area. The area is bounded by a line commencing at position latitude 39°26′33.1″ N, longitude 076°15′46.8″ W; thence westerly to latitude 39°26′33.1″ N, longitude 076°15′49.3″ W; thence northerly to latitude 39°26′37.1″ N, longitude 076°15′52.4″ W; thence northeasterly to latitude 39°26′40.0″ N, longitude 076°15′52.5″ W; thence easterly to latitude 39°26′45.9″ N, longitude 076°15′32.2″ W; thence southeasterly to latitude 39°26′45.3″ N, longitude 076°15′30.0″ W; thence southerly to latitude 39°26′43.8″ N, longitude 076°15′29.1″ W; thence southerly to latitude 39°26′42.2″ N, longitude 076°15′28.9″ W; thence southwesterly to latitude 39°26′40.8″ N, longitude 076°15′29.3″ W; thence westerly terminating at point of origin
| Buffer zone: The area surrounds the entire race area and is bounded by a line commencing at the shoreline at Flying Point Park at position latitude 39°26′31.9″ N, longitude 076°15′32.5″ W; thence westerly to latitude 39°26′30.5″ N, longitude 076°15′52.7″ W; thence northerly to latitude 39°26′39.9″ N, longitude 076°16′00.0″ W; thence easterly to latitude 39°26′51.6″ N, longitude 076°15′26.7″ W; thence southerly to latitude 39°26′37.0″ N, longitude 076°15′22.5″ W; thence southerly to latitude 39°26′33.7″ N, longitude 076°15′22.8″ W, located at the shoreline at Flying Point Park
| Spectator area. The designated spectator area is bounded by a line commencing at position latitude 39°26′39.9″ N, longitude 076°15′23.3″ W; thence east to latitude 39°26′39.6″ N, longitude 076°15′19.4″ W; thence south to latitude 39°26′36.6″ N, longitude 076°15′18.7″ W; thence west to latitude 39°26′37.0″ N, longitude 076°15′22.5″ W; thence north to point of origin
The Great Chesapeake Bay Swim | All navigable waters of the Chesapeake Bay between and adjacent to the spans of the William P. Lane Jr. Memorial Bridges from shoreline to shoreline, bounded to the north by a line drawn parallel and 500 yards north of the north bridge span that originates from the western shoreline at latitude 39°00′36.6″ N, longitude 076°23′55″ W, thence eastward to the eastern shoreline at latitude 38°59′14.2″ N, longitude 076°19′57.3″ W; and bounded to the south by a line drawn parallel and 500 yards south of the south bridge span that originates from the western shoreline at latitude 39°00′18.4″ N, longitude 076°24′28.2″ W, thence eastward to the eastern shoreline at latitude 38°58′39.2″ N, longitude 076°20′8.8″ W | The 2nd Sunday in June | The Great Chesapeake Bay Swim, Inc.
Maryland Freedom Swim | All navigable waters of the Choptank River, from shoreline to shoreline, within an area bounded on the east by a line drawn from latitude 38°35′14.2″ N, longitude 076°02′33.0″ W, thence south to latitude 38°34′08.3″ N, longitude 076°03′36.2″ W, and bounded on the west by a line drawn from latitude 38°35′32.7″ N, longitude 076°02′58.3″ W, thence south to latitude 38°34′24.7″ N, longitude 076°04′01.3″ W, located at Cambridge, MD | 1. The 2nd Saturday or Sunday in May; or 2. The 3rd Saturday or Sunday in May; or 3. The 4th Saturday or Sunday in May; or 4. The last Saturday or Sunday in May | TCR Event Management.
The MRE Tug of War | The navigable waters of Spa Creek from shoreline to shoreline, extending 400 feet from either side of a rope spanning Spa Creek from a position at latitude 38°58′36″ N, longitude 076°29′04.7″ W at Annapolis City Dock, thence to a position at latitude 38°58′25″ N, longitude 076°28′52.4″ W, at Eastport, MD shoreline, near the foot of 2nd Street | 1. The last Saturday in October; or 2. The 1st Saturday in November; or 3. The 2nd Saturday in November | The Maritime Republic of Eastport.
NAS Patuxent River Air Expo | All navigable waters of lower Patuxent River, near Solomons, MD, located between Fishing Point and base of break wall marking the entrance to East Seaplane Basin at Naval Air Station Patuxent River (adjacent to approach for runway 14), within an area bounded by a line commencing near the shoreline at latitude 38°17′39″ N, longitude 076°25′47″ W, thence northwest to latitude 38°17′47″ N, longitude 076°26′00″ W, thence northeast to latitude 38°18′09″ N, longitude 076°25′40″ W, thence southeast to latitude 38°18′00″ N, longitude 076°25′25″ W, located near the shoreline at U.S. Naval Air Station Patuxent River, MD All navigable waters of Chesapeake Bay, located approximately 500 yards north of break wall marking entrance to Chesapeake Bay Basin, Naval Air Station Patuxent River (adjacent to approach for runway 32), within an area bounded by a line commencing near the shoreline at latitude 38°16′53.9″ N, longitude 076°23′29.2″ W, thence southeast to latitude 38°16′40″ N, longitude 076°23′05″ W, thence southwest to latitude 38°16′19″ N, longitude 076°23′25″ W, thence northwest to latitude 38°16′30.4″ N, longitude 076°23′44.9″ W, located near the shoreline at U.S. Naval Air Station Patuxent River, MD | 1. The Thursday, Friday, Saturday and Sunday before Memorial Day (observed); or 2. The Thursday, Friday, Saturday and Sunday after Memorial Day (observed); or 3. The Thursday, Friday, Saturday and Sunday before Labor Day (observed); or 4. The Thursday, Friday, Saturday and Sunday after Labor Day (observed) | NAS Patuxent River.
Ocean City Air Show | All navigable waters of the North Atlantic Ocean within an area bounded by the following coordinates: Commencing at a point near the shoreline in vicinity of 33rd Street, Ocean City, MD, latitude 38°21′48.8″ N, longitude 075°04′10″ W, thence eastward to latitude 38°21′32″ N, longitude 075°03′12″ W, thence south to latitude 38°19′22.7″ N, longitude 075°04′09.5″ W, thence west to latitude 38°19′38.5″ N, longitude 075°05′05.4″ W, thence north along the shoreline to point of origin, located adjacent to Ocean City, MD | 1. The 1st consecutive Thursday, Friday, Saturday, and Sunday in June; or 2. The 2nd consecutive Thursday, Friday, Saturday, and Sunday in June; or 3. The 3rd consecutive Thursday, Friday, Saturday, and Sunday in June | Town of Ocean City, MD.
Ocean City Offshore Grand Prix | Regulated area: All navigable waters of North Atlantic Ocean bounded by the following coordinates: Commencing at a point near the shoreline at position latitude 38°21′42″ N, longitude 075°04′11″ W; thence east to latitude 38°21′33″ N, longitude 075°03′10″ W; thence southwest to latitude 38°19′25″ N, longitude 075°04′02″ W; thence west to the shoreline at latitude 38°19′35″ N, longitude 075°05′02″ W, at Ocean City, MD. The following locations are within the regulated area: | 1. The 1st Sunday in May; or 2. The 2nd Sunday in May; or 3. The 2nd Sunday in September; or 4. The 3rd Sunday in September; or 5. The 4th Sunday in September; or 6. The last Sunday in September | Offshore Powerboat Association.
| Race area: The area is bounded by a line commencing at latitude 38°19′46.85″ N, longitude 075°04′43.28″ W, thence east to latitude 38°19′44.23″ N, longitude 075°04′29.89″ W, thence north and parallel to the Ocean City, MD shoreline to latitude 38°21′23.24″ N, longitude 075°03′48.87″ W, thence west to latitude 38°21′25.12″ N, longitude 075°04′02.45″ W, thence south and parallel to the Ocean City, MD shoreline to the point of origin
| Buffer zone: The area is 500 yards in all directions surrounding the “Race area” and is bounded by a line commencing at a point near the shoreline at latitude 38°19′35″ N, longitude 075°05′02″ W, thence east to latitude 38°19′28″ N, longitude 075°04′17″ W, thence north and parallel to Ocean City, MD shoreline to latitude 38°21′35″ N, longitude 075°03′24″ W, thence west to the shoreline at latitude 38°21′42″ N, longitude 075°04′11″ W, thence south along the Ocean City, MD shoreline to the point of origin
| Spectator area: The area is bounded by a line commencing at latitude 38°19′40″ N, longitude 075°04′12″ W, thence east to latitude 38°19′37″ N, longitude 075°03′59″ W, thence northeast and parallel to the Ocean City, MD shoreline to latitude 38°21′17″ N, longitude 075°03′17″ W, thence west to latitude 38°21′20″ N, longitude 075°03′31″ W, thence southwest and parallel to Ocean City, MD shoreline to the point of origin
Oxford Funathlon Swim | The navigable waters of the Tred Avon River from shoreline to shoreline, within an area bounded on the east by a line drawn from latitude 38°42′25″ N, longitude 076°10′45″ W, thence south to latitude 38°41′37″ N, longitude 076°10′26″ W, and bounded on the west by a line drawn from latitude 38°41′58″ N, longitude 076°11′04″ W, thence south to latitude 38°41′25″ N, longitude 076°10′49″ W, thence east to latitude 38°41′25″ N, longitude 076°10′30″ W, located between Bellevue, MD, and Oxford, MD | 1. The 1st Saturday or Sunday in June; or 2. The 2nd Saturday or Sunday in June; or 3. The 3rd Saturday or Sunday in June | Charcot Marie Tooth Association and Therapies for Inherited Neuropathies.
Rock Hall and Waterman's Triathlon Swims | The navigable waters of Rock Hall Harbor from shoreline to shoreline, bounded by a line drawn from latitude 39°07′58.9″ N, longitude 076°15′02″ W, thence southeast and parallel along the harbor breakwall to latitude 39°07′50.1″ N, longitude 076°14′41.7″ W, located at Rock Hall, MD | 1. The Saturday and Sunday after Memorial Day (observed); and 2. The 1st Saturday and Sunday in October | Kinetic Multisports, LLC.
Southern Maryland Boat Club Summer and Fall Regattas | Regulated area: All navigable waters of Breton Bay and McIntosh Run, immediately adjacent to Leonardtown, MD shoreline, from shoreline to shoreline, within an area bounded to the east by a line drawn along latitude 38°16′43″ N, and bounded to the west by a line drawn along longitude 076°38′30″ W, located at Leonardtown, MD. The following locations are within the regulated area: Race area: The area is bounded by a line commencing at position latitude 38°17′09.78″ N, longitude 076°38′22.71″ W, thence southeast to latitude 38°16′58.62″ N, longitude 076°37′50.91″ W, thence southwest to latitude 38°16′51.89″ N, longitude 076°37′55.82″ W, thence northwest to latitude 38°17′05.44″ N, longitude 076°38′27.20″ W, thence northeast to point of origin | 1. Either: a. July 4th; or b. The last Saturday and Sunday of July; and 2. Either: a. The 1st Saturday and Sunday in October; or b. The 2nd Saturday and Sunday in October | Southern Maryland Boat Club.
| Buffer zone: The area is approximately 125 yards in all directions surrounding the “Race area” and is bounded by a line commencing at the shoreline west of Leonardtown Wharf Park at position latitude 38°17′13.80″ N, longitude 076°38′24.72″ W, thence southeast to latitude 38°16′58.61″ N, longitude 076°37′44.29″ W, thence southwest to latitude 38°16′46.35″ N, longitude 076°37′52.54″ W, thence northwest to latitude 38°16′58.78″ N, longitude 076°38′26.63″ W, thence north to latitude 38°17′07.50″ N, longitude 076°38′30.00″ W, thence northeast to point of origin
| Spectator areas: Northeast Spectator Fleet Area. The area is bounded by a line commencing at position latitude 38°16′59.10″ N, longitude 076°37′45.60″ W, thence northeast to latitude 38°17′01.76″ N, longitude 076°37′43.71″ W, thence southeast to latitude 38°16′59.23″ N, longitude 076°37′37.25″ W, thence southwest to latitude 38°16′53.32″ N, longitude 076°37′40.85″ W, thence northwest to latitude 38°16′55.48″ N, longitude 076°37′46.39″ W, thence northeast to latitude 38°16′58.61″ N, longitude 076°37′44.29″ W, thence northwest to point of origin
| Southeast Spectator Fleet Area. The area is bounded by a line commencing at Buzzard Point at position latitude 38°16′47.20″ N, longitude 076°37′54.80″ W, thence south to latitude 38°16′43.30″ N, longitude 076°37′55.20″ W, thence east to latitude 38°16′43.20″ N, longitude 076°37′47.80″ W, thence north to latitude 38°16′44.80″ N, longitude 076°37′48.20″ W, thence northwest to point of origin. South Spectator Fleet Area. The area is bounded by a line commencing at position latitude 38°16′55.36″ N, longitude 076°38′17.26″ W, thence southeast to latitude 38°16′50.39″ N, longitude 076°38′03.69″ W, thence south to latitude 38°16′48.87″ N, longitude 076°38′03.68″ W, thence northwest to latitude 38°16′53.82″ N, longitude 076°38′17.28″ W, thence north to point of origin
Thunder on the Choptank | Regulated area. All navigable waters within Choptank River and Hambrooks Bay bounded by a line connecting the following coordinates: Commencing at the shoreline at Long Wharf Park, Cambridge, MD, at position latitude 38°34′30″ N, longitude 076°04′16″ W; thence east to latitude 38°34′20″ N, longitude 076°03′46″ W; thence northeast across the Choptank River along the Senator Frederick C. Malkus, Jr. (US-50) Memorial Bridge, at mile 15.5, to latitude 38°35′30″ N, longitude 076°02′52″ W; thence west along the shoreline to latitude 38°35′38″ N, longitude 076°03′09″ W; thence north and west along the shoreline to latitude 38°36′42″ N, longitude 076°04′15″ W; thence southwest across the Choptank River to latitude 38°35′31″ N, longitude 076°04′57″ W; thence west along the Hambrooks Bay breakwall to latitude 38°35′33″ N, longitude 076°05′17″ W; thence south and east along the shoreline to and terminating at the point of origin. The following locations are within the regulated area: | 1. The 3rd Saturday and Sunday in July; or 2. The 4th Saturday and Sunday in July; or 3. The last Saturday and Sunday in July | Kent Narrows Racing Association.
| Race Area. Located within the navigable waters of Hambrooks Bay and Choptank River, between Hambrooks Bar and Great Marsh Point, MD
| Buffer zone. All navigable waters within Hambrooks Bay and Choptank River (with the exception of the Race Area designated by the marine event sponsor) bound to the north by the breakwall and continuing along a line drawn from the east end of breakwall located at latitude 38°35′27.6″ N, longitude 076°04′50.1″ W; thence southeast to latitude 38°35′17.7″ N, longitude 076°04′29″ W; thence south to latitude 38°35′01″ N, longitude 076°04′29″ W; thence west to the shoreline at latitude 38°35′01″ N, longitude 076°04′41.3″ W
| Spectator area. All navigable waters of the Choptank River, eastward and outside of Hambrooks Bay breakwall, thence bound by line that commences at latitude 38°35′28″ N, longitude 076°04′50″ W; thence northeast to latitude 38°35′30″ N, longitude 076°04′47″ W; thence southeast to latitude 38°35′23″ N, longitude 076°04′29″ W; thence southwest to latitude 38°35′19″ N, longitude 076°04′31″ W; thence northwest to and terminating at the point of origin
USNA Blue Angels Air Show | Regulated area: All navigable waters of the Severn River, from shoreline to shoreline, bounded to the northwest by a line drawn along the U.S. 50 fixed highway bridge. The regulated area is bounded to the southeast by a line drawn from U.S. Naval Academy Light at latitude 38°58′39.5″ N, longitude 076°28′49″ W, thence southeast to a point 1500 yards ESE of Chinks Point, MD at latitude 38°57′41″ N, longitude 076°27′36″ W, thence northeast to Greenbury Point at latitude 38°58′27.7″ N, longitude 076°27′16.4″ W. The following location is within the regulated area: | The Tuesday and Wednesday before Memorial Day (observed) | U.S. Naval Academy.
| Spectator area: All navigable waters of the Severn River bounded by a line commencing at latitude 38°58′38.2″ N, longitude 076°27′56.9″ W, thence southeast to latitude 38°58′24.9″ N, longitude 076°27′47.6″ W, thence west to latitude 38°58′22.3″ N, longitude 076°27′54.5″ W, thence northwest to latitude 38°58′28.3″ N, longitude 076°28′11″ W, thence east to point of origin. This area is located generally in the center portion of Middle Ground Anchorage, Severn River, MD. This spectator area is restricted to certain vessels as described in paragraph (h)(1) of this section
USNA Crew Races | All navigable waters of the Severn River, from shoreline to shoreline, bounded to the northwest by a line drawn from the south shoreline at latitude 39°00′58″ N, longitude 076°31′32″ W, thence to the north shoreline at latitude 39°01′11″ N, longitude 076°31′10″ W. The regulated area is bounded to the southeast by a line drawn from U.S. Naval Academy Light at latitude 38°58′39.5″ N, longitude 076°28′49″ W, thence easterly to Carr Point, MD at latitude 38°58′58″ N, longitude 076°27′41″ W | 1. Either: a. The 3rd Saturday and Sunday in May; or b. The 4th Saturday and Sunday in May; or c. The last Saturday and Sunday in May; and 2. Every Saturday and Sunday in May | U.S. Naval Academy.
USNA Safety at Sea Seminar | All navigable waters of the Severn River, from shoreline to shoreline, bounded to the northwest by the Naval Academy (SR-450) Bridge and bounded to the southeast by a line drawn from Triton Light at latitude 38°58′53.0″ N, longitude 076°28′34.4″ W, thence easterly to Carr Point, MD at latitude 38°58′58.7″ N, longitude 076°27′38.9″ W | 1. The 4th Saturday in March; or 2. The last Saturday in March; or 3. The 1st Saturday in April | U.S. Naval Academy.
Washington, DC Dragon Boat Festival | All navigable waters of the Upper Potomac River, Washington, DC, from shoreline to shoreline, bounded upstream by the Francis Scott Key Bridge and downstream by the Roosevelt Memorial Bridge, located at Georgetown, Washington, DC | 1. The 3rd Saturday and Sunday in May; or 2. The 2nd Saturday and Sunday in June; or 3. The 3rd Saturday and Sunday in June | Taiwan-U.S. Cultural Association.
Washington's Crossing: Swim Across the Potomac | All navigable waters of the Potomac River, encompassed by a line connecting the following points, beginning at Jones Point Park, VA, shoreline at latitude 38°47′35″ N, longitude 077°02′22″ W, thence east along the northern extent of the Woodrow Wilson Memorial (I-495/I-95) Bridge, at mile 103.8, to the Rosilie Island shoreline at latitude 38°47′36″ N, longitude 077°01′32″ W, thence south along the Maryland shoreline to latitude 38°46′52″ N, longitude 077°01′13″ W, at National Harbor, MD shoreline, thence west across the Potomac River to the George Washington Memorial Parkway highway overpass and Cameron Run shoreline at latitude 38°47′23″ N, longitude 077°03′03″ W, thence north along the Virginia shoreline to the point of origin | The 1st Sunday in June | Wave One Swimming.
Washington DC Sharkfest Swim | All navigable waters of the Upper Potomac River, within an area bounded by a line connecting the following points: From the Rosilie Island shoreline at latitude 38°47′30.30″ N, longitude 077°01′26.70″ W, thence west to latitude 38°47′30.00″ N, longitude 077°01′37.30″ W, thence south to latitude 38°47′08.20″ N, longitude 077°01′37.30″ W, thence east to latitude 38°47′09.00″ N, longitude 077°01′09.20″ W, thence southeast along the pier to latitude 38°47′06.30″ N, longitude 077°01′02.50″ W, thence north along the shoreline and west along the southern extent of the Woodrow Wilson (I-95/I-495) Memorial Bridge and south and west along the shoreline to the point of origin, located at National Harbor, MD | 1. The 3rd Saturday or Sunday in June; or 2. The 4th Saturday or Sunday in June; or 3. The last Saturday or Sunday in June | Enviro-Sports Productions Inc.
¹As noted, the enforcement dates and times for each of the listed events in this table 2 are subject to change. In the event of a change, or for enforcement periods listed that do not allow a specific date or dates to be determined, the Captain of the Port will provide notice to the public by publishing a Notice of Enforcement in the Federal Register, as well as, issuing a Broadcaster Notice to Mariner.

(3) Coast Guard Sector Virginia—COTP Zone.

Table 3 to paragraph (i)(3)
Event | Regulated area | Enforcement period(s) ¹ | Sponsor
Blackbeard Festival, Battle of Hampton | Regulated area: The navigable waters of Sunset Creek and Hampton River shoreline to shoreline bounded to the north by the I-64 Bridge over the Hampton River and bounded to the south by a line drawn from Hampton River Channel Light 16 (LL 10945), located at latitude 37°01′03″ N, longitude 076°20′24″ W, thence west across the Hampton River to finger pier at Bluewater Yacht Center, located at latitude 37°01′03″ N, longitude 076°20′28″ W. The following locations are within the regulated area: | May—last Friday, Saturday and Sunday or June—1st Friday, Saturday and Sunday. October—3rd and 4th weekend | City of Hampton.
| Spectator Vessel Anchorage Areas—
| Area A. Located in the upper reaches of the Hampton River, bounded to the south by a line drawn from the western shoreline at latitude 37°01′46.6″ N, longitude 076°20′21.3″ W, thence east across the river to latitude 37°01′42.6″ N, longitude 076°20′12.3″ W, and bounded to the north by the I-64 Bridge over the Hampton River. The anchorage area will be marked by orange buoys.
| Area B. Located along the eastern side of the Hampton River channel, south of the route 60/143 bridge and Joy's Marina, and adjacent to the shoreline that fronts the Riverside Health Center. Bounded by the shoreline and a line drawn between the following points: latitude 37°01′27.6″ N, longitude 076°20′23.1″ W, thence south to latitude 37°01′22.9″ N, longitude 076°20′26.1″ W. The anchorage area will be marked by orange buoys. |  |
Cock Island Race | The navigable waters of the Elizabeth River and its branches from shoreline to shoreline, bounded to the northwest by a line drawn across the Port Norfolk Reach section of the Elizabeth River between the northern corner of the landing at Hospital Point, Portsmouth, VA, latitude 36°50′51.6″ N, longitude 076°18′07.9″ W and the north corner of the City of Norfolk Mooring Pier at the foot of Brooks Avenue located at latitude 36°51′00.3″ N, longitude 076°17′51″ W; bounded on the southwest by a line drawn from the southern corner of the landing at Hospital Point, Portsmouth, VA, at latitude 36°50′50.9″ N, longitude 076°18′07.7″ W, to the northern end of the eastern most pier at the Tidewater Yacht Agency Marina, located at latitude 36°50′33.6″ N, longitude 076°17′54.1″ W; bounded to the south by a line drawn across the Lower Reach of the Southern Branch of the Elizabeth River, between the Portsmouth Lightship Museum located at the foot of London Boulevard, in Portsmouth, VA at latitude 36°50′13.2″ N, longitude 076°17′44.8″ W, and the northwest corner of the Norfolk Shipbuilding & Drydock, Berkley Plant, Pier No. 1, located at latitude 36°50′08.8″ N, longitude 076°17′37.5″ W; and bounded to the southeast by the Berkley Bridge which crosses the Eastern Branch of the Elizabeth River between Berkley at latitude 36°50′21.5″ N, longitude 076°17′14.5″ W, and Norfolk at latitude 36°50′35″ N, longitude 076°17′10″ W | 1. The 2nd Saturday in June; or 2. The 3rd Saturday in June | Portsmouth Boat Club & City of Portsmouth, VA.
Hampton Cup Regatta | Regulated area: All navigable waters of Mill Creek, adjacent and north of Fort Monroe, Hampton, VA. The regulated area includes the following areas: Race area: All navigable waters within the following boundaries: to the north, a line drawn along latitude 37°01′03″ N, to the east a line drawn along longitude 076°18′30″ W, to the south a line drawn parallel with the Fort Monroe shoreline, and west boundary is parallel with the Route 258—East Mercury Boulevard Bridge—causeway. The following locations are within the regulated area: | 1. The 1st consecutive Friday, Saturday, and Sunday in August; or 2. The 2nd consecutive Friday, Saturday and Sunday in August; and 3. The 4th Saturday and Sunday in September | Hampton Cup Regatta Boat Club.
| Buffer zone A: All navigable waters bounded by a line connecting the following points: latitude 37°00′43″ N, longitude 076°18′54″ W, thence north along the causeway to latitude 37°01′03″ N, longitude 076°18′52″ W, thence southwest to latitude 37°01′00″ N, longitude 076°18′54″ W, thence south to Route 143 causeway at latitude 37°00′44″ N, longitude 076°18′58″ W, thence east along the shoreline to point of origin
| Buffer zone B: All navigable waters bounded by a line connecting the following points: latitude 37°01′08″ N, longitude 076°18′49″ W, thence east to latitude 37°01′08″ N, longitude 076°18′23″ W, thence south to latitude 37°00′33″ N, longitude 076°18′23″ W, thence west to latitude 37°00′33″ N, longitude 076°18′30″ W, thence north to latitude 37°01′03″ N, longitude 076°18′30″ W, thence west to latitude 37°01′03″ N, longitude 076°18′49″ W, thence north to point of origin
| Spectator area: All navigable waters bounded by a line connecting the following points: latitude 37°01′08″ N, longitude 076°18′23″ W, thence east to latitude 37°01′08″ N, longitude 076°18′14″ W, thence south to latitude 37°00′54″ N, longitude 076°18′14″ W, thence southwest to latitude 37°00′37″ N, longitude 076°18′23″ W, thence north to point of origin
Mattaponi Drag Boat Race | Regulated area: All navigable waters of Mattaponi River immediately adjacent to Rainbow Acres Campground, King and Queen County, VA. The regulated area includes a section of the Mattaponi River approximately three-quarter mile long and bounded in width by each shoreline, bounded to the east by a line that runs parallel along longitude 076°52′43″ W, near the mouth of Mitchell Hill Creek, and bounded to the west by a line that runs parallel along longitude 076°53′41:″ W just north of Wakema, VA. The following locations are within the regulated area | June—3rd Saturday and Sunday or 4th Saturday and Sunday | Mattaponi Volunteer Rescue Squad and Dive Team.
| Buffer zone: The navigable waters of Mattaponi River extending 200 yards outwards from east and west boundary lines described in this section
| Spectator area: The regulated area cannot accommodate spectator vessels due to limitations posed by shallow water and insufficient waters to provide adequate separation between race course and other vessels. Spectators are encouraged to view the race from points along the adjacent shoreline
Norfolk Harborfest | The navigable waters of the Elizabeth River and its branches from shoreline to shoreline, bounded to the northwest by a line drawn across the Port Norfolk Reach section of the Elizabeth River between the north corner of the landing at Hospital Point, Portsmouth, VA, latitude 36°50′51.6″ N, longitude 076°18′07.9″ W, and the north corner of the City of Norfolk Mooring Pier at the foot of Brooks Avenue located at latitude 36°51′00.3″ N, longitude 076°17′51″ W; bounded on the southwest by a line drawn from the southern corner of the landing at Hospital Point, Portsmouth, VA, at latitude 36°50′50.9″ N, longitude 076°18′07.7” W, to the northern end of the eastern most pier at the Tidewater Yacht Agency Marina, located at latitude 36°50′33.6″ N, longitude 076°17′54.1″ W; bounded to the south by a line drawn across the Lower Reach of the Southern Branch of the Elizabeth River, between the Portsmouth Lightship Museum located at the foot of London Boulevard, in Portsmouth, VA at latitude 36°50′13.2″ N, longitude 076°17′44.8″ W, and the northwest corner of the Norfolk Shipbuilding & Drydock, Berkley Plant, Pier No. 1, located at latitude 36°50′08.8″ N, longitude 076°17′37.5″ W; and to the southeast by the Berkley Bridge which crosses the Eastern Branch of the Elizabeth River between Berkley at latitude 36°50′21.5″ N, longitude 076°17′14.5″ W, and Norfolk at latitude 36°50′35″ N, longitude 076°17′10″ W | June—1st Friday, Saturday and Sunday or 2nd Friday, Saturday and Sunday 1. The 1st consecutive Friday, Saturday, and Sunday in June; or 2. The 2nd consecutive Friday, Saturday, and Sunday in June | Norfolk Festevents, Ltd.
Pony Penning Swim | The navigable waters of Assateague Channel from shoreline to shoreline, bounded to the east by a line drawn from latitude 37°55′01″ N, longitude 075°22′40″ W, thence south to latitude 37°54′50″ N, longitude 075°22′46″ W; and to the southwest by a line drawn from latitude 37°54′54″ N, longitude 075°23′00″ W, thence east to latitude 37°54′49″ N, longitude 075°22′49″ W | 1. The last Wednesday and following Friday in July; or 2. The 1st Wednesday and following Friday in August | Chincoteague Volunteer Fire Department.
Poquoson Seafood Festival Workboat Races | Regulated area: The navigable waters of the Back River, Poquoson, VA. The following locations are within the regulated area: Race area: The area is bounded on the north by a line drawn along latitude 37°06′30″ N, bounded on the south by a line drawn along latitude 37°06′15″ N, bounded on the east by a line drawn along longitude 076°18′52″ W, and bounded on the west by a line drawn along longitude 076°19′30″ W | 1. The last Sunday in September; or 2. The 1st Sunday of October; or 3. The 2nd Sunday of October | City of Poquoson.
| Buffer zone: The navigable waters of Back River extending 200 yards outwards from east and west boundary lines, and 100 yards outwards from the north and south boundary lines described in this section
| Spectator area: Is located along the south boundary line of the buffer zone described in this section and continues to the south for 300 yards
Something in the Water | Regulated area: All navigable waters of the North Atlantic Ocean immediately adjacent to Virginia Beach, VA bounded on the south side by a line beginning on the shore line at latitude 36°49′49.20″ N, longitude 75°58′04.54″ W, thence easterly to latitude 36°49′49.27″ N, longitude 75°57′58.49″ W, just seaward of the Rudee Inlet break-wall, thence northerly to latitude 36°51′34.83″N , longitude 75°58′28.82″ W, adjacent to Neptune's Park at 30th street, thence westerly to the shore line at latitude 36°51′34.83″ N, longitude 75°58′35″ W, and thence southerly along the shore line back to the beginning point | The last Friday, Saturday, and Sunday in April | Redrock Entertainment Services.
| Buffer zone: The navigable waters of the North Atlantic Ocean extending 200 yards towards the eastern boundary line described in this section
| Spectator Area: Spectator craft are not permitted within the regulated area during the enforcement period. The regulated area is established to provide adequate separation between event participants on the beach and prohibit unauthorized waterside entry during the event
Virginia Boat Club (VBC) Sprints Regatta on the James River | All navigable waters of the James River in the vicinity of Robious Landing Park, Midlothian, VA. The regulated area includes a section of the James River approximately 1300 yards long and bounded in width by each shoreline, bounded to the east by a line that runs parallel along longitude 077°38′04″ W, and bounded to the west by a line that runs parallel along longitude 077°38′54″ W, north of Robious Landing Park. | 1. The 2nd Saturday or Sunday in June; or 2. The 3rd Saturday or Sunday in June | Virginia Boat Club Richmond, VA.
¹ As noted, the enforcement dates and times for each of the listed events in this table 3 are subject to change. In the event of a change, or for enforcement periods listed that do not allow a specific date or dates to be determined, the Captain of the Port will provide notice to the public by publishing a Notice of Enforcement in the Federal Register, as well as, issuing a Broadcaster Notice to Mariner.

(4) Coast Guard Sector North Carolina—COTP Zone.

Table 4 to Paragraph (i)(4)
Event | Regulated area | Enforcement period(s) ¹ | Sponsor
Crossing, The | All navigable waters of Lake Gaston, from shoreline to shoreline, directly under the length of Eaton Ferry Bridge (NC State Route 903), commencing at the southern bridge entrance at latitude 36°30′38″ N, longitude 077°57′53″ W, and extending to the northern bridge entrance at latitude 36°31′19″ N, longitude 077°57′33″ W, and bounded to the west by a line drawn parallel and 100 yards from and the western side of Eaton Ferry Bridge near Littleton, NC | The 2nd Saturday in August | Organization to Support the Arts, Infrastructure, and Learning on Lake Gaston, AKA O'SAIL.
PPD Ironman North Carolina | All navigable waters of Masonboro Inlet, shoreline to shoreline starting at location latitude 34°11′13″ N, longitude 077°48′53″ W, thence north along Banks Channel to latitude 34°12′14″ N, longitude 077°48′04″ W, thence west to Motts channel, terminating at Sea Path Marina at latitude 34°12′44″ N, longitude 077°48′25″ W, Wrightsville Beach, NC | 1. The 3rd Friday or Saturday in October; or 2. The 4th Friday or Saturday in October; or 3. The last Friday or Saturday in October | Ironman, Wilmington, NC.
Roanoke River Races | All navigable waters of the Roanoke River in Plymouth, NC, from approximate positions: latitude 35°52′25″ N, longitude 076°44′33″ W, then northwest to latitude 35°52′29″ N, longitude 076°44′37″ W, then southwest along the shoreline to latitude 35°52′00″ N, longitude 076°45′31″ W, then south to latitude 35°51′56″ N, longitude 076°45′30″ W, then northeast along the shoreline to the point of origin, a length of approximately one mile. | 1. Either: a. The 1st Saturday and Sunday in August; or b. The 2nd Saturday and Sunday in August; or c. The 3rd Saturday and Sunday in August; or d. The 4th Saturday and Sunday in August; and 2. Either: | Virginia Outlaw Drag Boat Association (VODBA)
|  | a. The 2nd Saturday and Sunday in October; b. The 3rd Saturday and Sunday in October; or
|  | c. The 4th Saturday and Sunday in October; or
|  | d. The last Saturday and Sunday in October
Swim the Loop and Motts Channel Sprint | All navigable waters surrounding Harbor Island, NC including Intracoastal waterway, Lees Cut, Banks Channel and Motts Channel. Enforcement area extends approximately 100 yards from the shoreline of Harbor Island and is bounded by a line connecting the following points; latitude 34°12′55″ N, longitude 077°48′59″ W, thence northeast to latitude 34°13′16″ N, longitude 077°48′39″ W, thence southeast to latitude 34°13′06″ N, longitude 077°48′18″ W, thence east to latitude 34°13′12″ N, longitude 077°47′41″ W, thence southeast to latitude 34°13′06″ N, longitude 077°47′33″ W, thence south to latitude 34°12′31″ N, longitude 077°47′47″ W, thence southwest to latitude 34°12′11″ N, longitude 077°48′01″ W, thence northwest to latitude 34°12′29″ N, longitude 077°48′29″ W, thence north to latitude 34°12′44″ N, longitude 077°48′32″ W, thence northwest to point of origin | 1. The 4th Saturday or Sunday in September; or 2. The last Saturday or Sunday in September | Without Limits Coaching, Inc.
Wilmington YMCA Triathlon | All navigable waters of Motts Channel, from shoreline to shoreline and between Wrightsville Channel Day beacon 14 (LLNR 30220), located at latitude 34°12′17.8″ N, longitude 077°48′09.1″ W, thence westward to Wrightsville Channel Day beacon 25 (LLNR 30255), located at latitude 34°12′52.1″ N, longitude 077°48′53.5″ W | 1. The 3rd, 4th, or last Saturday in September; or 2. The last Saturday in October; or 3. The 1st or 2nd Saturday in November | Wilmington, NC, YMCA.
¹ As noted, the enforcement dates and times for each of the listed events in this table 4 are subject to change. In the event of a change, or for enforcement periods listed that do not allow a specific date or dates to be determined, the Captain of the Port will provide notice to the public by publishing a Notice of Enforcement in the Federal Register, as well as, issuing a Broadcaster Notice to Mariner.

Dated: May 10, 2021.
Laura M. Dickey,
Rear Admiral, U.S. Coast Guard, Commander, Fifth Coast Guard District.

[FR Doc. 2021-11570 Filed 6-2-21; 8:45 am]

BILLING CODE P